DEPARTMENT OF JUSTICE

Office of Justice Programs

[OJP(OJP)-1346]

The Serious, Violent Offender Reentry Initiative

AGENCY: Office of Justice Programs (OJP), Justice (DOJ) in partnership with Department of Health and Human Services (HHS), Department of Labor (DOL), Department of Education (ED), Department of Housing and Urban Development (HUD), and National Institute of Corrections (NIC), an agency of DOJ.

ACTION: Notice of funding availability.

SUMMARY: The Office of Justice Programs (OJP), U.S. Department of Justice (DOJ) and its Federal partners, HHS, DOL, ED, HUD, and NIC, are requesting applications for the Serious, Violent Offender Reentry Initiative. This collaborative and comprehensive grant program is designed to address the issues related to violent offenders (adults and juveniles) who are to be released and who have been released from correctional facilities and are returning to communities nationwide. The program aims to reduce recidivism by these returning offenders and thereby, enhance community safety.

DATES: Applications must be received by Wednesday, May 15, 2002, by 5:30 p.m. Eastern Standard Time.

ADDRESSES: All applications must be mailed or delivered to the Office of the Assistant Attorney General, Office of Justice Programs, 810 7th Street, NW., 6th Floor, Washington, DC 20531. Applicants are encouraged to use Federal Express, UPS, or similar service to ensure delivery by the due date as mail at OJP is still being delayed due to recent events. Faxed or e-mailed applications will not be accepted.

FOR FURTHER INFORMATION CONTACT: DOJ Response Center at 1-800-421-6770 for copies of the Serious, Violent Offender Reentry Initiative Application Package and for general information about the initiative. The Application Package can also be downloaded from OJP's Reentry Web site at http://www.ojp.usdoj.gov/reentry/funding.htm.

SUPPLEMENTARY INFORMATION:

Why Focus On Returning Violent Offenders?

• According to OJP's Bureau of Justice Statistics (BJS), the rate of incarceration of offenders in State and Federal prisons and local jails rose sharply throughout the country during the 1990s, climbing from 458 inmates for every 100,000 U.S. residents in 1990 to 699 inmates per 100,000 residents by year-end 2000. In absolute numbers these rates represent an increase from 1.1 million men and women held in 1990 to over 1.9 million on December 31, 2000. (BJS, Allen J. Beck, Ph.D., and Paige M. Harrison, August 2001, Prisoners in 2000).

• Of the nearly 1.2 million prisoners held in State facilities, 48 percent were convicted of violent crimes. (BJS, Allen J. Beck, Ph.D., and Paige M. Harrison, August 2001, Prisoners in 2000).

• Growing numbers of these prisoners are being released into the community each year. In fact, there were more than 652,000 offenders under State parole supervision across the country at year-end 2000. Only 42 percent of State parole discharges in 2000 successfully completed their term of supervision, a percentage which has remained relatively unchanged since 1990. (BJS, October 2001, Timothy Hughes, Doris James Wilson, Allen J. Beck, Ph.D., Trends in State Parole, 1990-2000).

• Most offenders currently lack any concrete, specific plans for their return.

• Correctional facilities are not prepared in many cases to provide programs and resources for successful reintegration (i.e., job development (interviewing, completing applications, vocational training), education, financial training, comprehensive mental health and substance abuse treatment, family counseling, and transitional and permanent housing.

• Due to overburdened and understaffed community corrections agencies, most offenders are not monitored on an intensive, day-to-day basis as they return to the community.

• Few jurisdictions have an established authority designed to continually assess the offenders' behavior and to mandate the coordination of services.

How Will the Reentry Initiative Address These Problems?

The Serious, Violent Offender Reentry Initiative seeks to provide and coordinate the resources necessary to transition newly-released offenders into the community and to help them become productive, law-abiding citizens. Preparing offenders for reentry must begin in the institutions. From there, a successful reintegration strategy requires providing a continuum of services and supervision as offenders transition back into the community, and providing a means of sustaining offenders in the community after they successfully complete their term of post-incarceration and criminal justice involvement. Accordingly, the Serious, Violent Offender Reentry Initiative is designed to address all three of these stages.

• Phase I: “Making a Plan” focuses on institutionally-based programs that provide education, treatment, and life skills training for offenders while they are serving time in institutions and other correctional facilities;

• Phase II: “Coming Home” focuses on the community-based transition programs, services and supervision provided as the offenders reenter the community;

• Phase III: “Staying Home” focuses on community-based, long-term support by establishing networks of agencies and individuals in the neighborhoods who can assist offenders in remaining law-abiding citizens.

Who Is the Target Population?

The Reentry Initiative seeks to focus reentry efforts on serious, violent offenders. Serious, violent offenders are defined as offenders convicted for a Part I violent crime or adjudicated delinquent for an act which if committed by an adult would be a Part I violent crime. A “Part I violent crime” means murder and nonnegligent manslaughter, forcible rape, robbery, and aggravated assault as reported to the Federal Bureau of Investigation for purposes of the Uniform Crime Reports.

Within the target population of returning serious, violent offenders, applicant jurisdictions should select one or more of the following target age group(s) on which to focus their reentry programs:

• Youth (ages 14-17)

• Young Adult (ages 18-24)

• Adult (ages 25+)

Who Are Eligible Applicants?

The Office of Justice Programs, in conjunction with its Federal partners, will provide funding for states, local jurisdictions, or tribal units of government to design, implement, enhance and evaluate reentry strategic plans for returning offenders in the defined age categories.

To be eligible for funding, the state, local or tribal government applicant must have established and described in its application a partnership that includes all the relevant stakeholders including ranking officials from :

• Juvenile and/or adult justice agencies

• Courts

• Law enforcement

• Job training/workforce investment boards

• Community-based organizations

• Education agencies and institutions

• Substance abuse, mental health agencies, and

• A local reentry program evaluator

Applicants are also encouraged to collaborate with non-profit organizations, small, neighborhood-based organizations, and private foundations and faith-based groups.

What Are the Key Elements of a Reentry Strategy?

Although the structure of the applicants' reentry strategies may vary depending on available resources and relevant laws and policies, successful applications will outline strategies that have the following elements or are in the process of developing them:

• Establishment of a clear and ongoing authority to hold the offender accountable so long as there is legal jurisdiction. Sanctions should be appropriate and graduated, including return to confinement status.

• Implementation of a detailed assessment process'forensic, educational, vocational, mental health, and substance abuse.

• Development of a reintegration plan that clearly addresses all issues identified in the assessment phase and becomes the guide by which the offender must manage reentry into the community.

• Utilization of existing community resources to implement the plan which affords continuity and availability of service delivery and ensures familiarity by the offender with the service system and also increases potential for sustainability of the program and the offender in the community.

• Application of graduated levels of supervision and sanctions to offenders such as highly structured housing, electronic monitoring, team supervision, and consistent and equitable responses to lack of compliance or reoffending.

• Involvement of local law enforcement, probation, parole, and the community in tracking the activities and behaviors of offenders.

• Utilization of community-based organizations, which include faith-based organizations, to mentor and provide services to the offenders.

Funding Strategy

Each applicant will be required to identify Federal, State, and local resources that will be leveraged, redeployed and accessed to support the various components of their reentry programs-in institutions and/or in the community. Grant funds that will be made available through this Initiative will be used to fund the components of an applicant's program for which they have been unable to identify and/or obtain the necessary resources.

Applicants can obtain online information, at http://www.ojp.usdoj.gov/reentry/funding.htm, to help them identify existing funding resources available from the Federal partners that could be leveraged to support the development and implementation of state and local reentry programs.

Upcoming Teleconference and Workshops About Reentry Grant Applications

DOJ and its Federal partners plan to hold a national teleconference, as well as regional workshops, to provide information about applying for reentry grant funding. Information about these events will be posted on the OJP Reentry website once the dates have been finalized.

Note to Applicants for DOJ's Canceled Young Offender Initiative

Applicants who responded to the previous Young Offender Initiative solicitation must reapply to receive funding under this solicitation. Those applications must conform to the requirements as described in the Serious, Violent Offender Reentry Initiative.

Deborah J. Daniels,
Assistant Attorney General, Office of Justice Programs.

[FR Doc. 02-2241 Filed 1-29-02; 8:45 am]

BILLING CODE 4410-18-P